DEPARTMENT OF HEALTH AND HUMAN SERVICES

Health Resources and Services Administration

Agency Information Collection Activities: Submission for OMB Review; Comment Request

AGENCY: Health Resources and Services Administration, HHS.

ACTION: Correction of Burden Table.

SUMMARY: The Health Resources and Services Administration published an Agency Information Collection document in the Federal Register of January 31, 2011 (FR Doc. 2011-1997), on page 5389, regarding the Data System for Organ Procurement and Transplantation Network (42 CFR Part 121, OMB No. 0915-0184): Extension. The Burden Table is incorrect.

Correction

In the Federal Register issue of January 31, 2011 (FR Doc. 2011-1997), on page 5389, correct the Burden Table as follows:

Estimated Annual Reporting and Recordkeeping Burden
Section and activity | Number of respondents | Responses per respondents | Total responses | Hours per response | Total burden hours
121.3(b)(2) |
OPTN membership and application requirements | 40 | 3 | 120 | 15 | 1,800
121.3 |
Application for Non-Institutional Members | 20 | 1 | 20 | 10 | 200
121.3(b)(4) |
Appeal for OPTN membership | 2 | 1 | 2 | 3 | 6
121.6(c) (Reporting) |
Submitting criteria for organ acceptance | 900 | 1 | 900 | 0.5 | 450
121.6(c) (Disclosure) |
Sending criteria to OPOs | 900 | 1 | 900 | 0.5 | 450
121.7(b)(4) |
Reasons for Refusal | 900 | 38 | 34,200 | 0.5 | 17,100
121.7(f) |
Transplant to prevent organ wastage | 260 | 1.5 | 390 | 0.5 | 195
121.9(b) |
Designated Transplant Program Requirements | 10 | 1 | 10 | 5.0 | 50
121.3 |
Personnel Change Application | 324 | 1 | 324 | 10 | 3,240
121.9(d) |
Appeal for designation | 2 | 1 | 2 | 6 | 12
Total | 954 |  | 36,868 |  | 23,503

Dated: February 14, 2011.
Reva Harris,
Acting Director, Division of Policy and Information Coordination.

[FR Doc. 2011-3755 Filed 2-17-11; 8:45 am]

BILLING CODE 4165-15-P